DEPARTMENT OF ENERGY

Federal Energy Regulatory Commission

[Docket No. RP02-382-003]

Crossroads Pipeline Company; Notice of Compliance Filing

January 14, 2003.

Take notice that on January 3, 2003, Crossroads Pipeline Company (Crossroads), tendered for filing as part of its FERC Gas Tariff, Second Revised Volume No. 1, the following revised tariff sheets with a proposed effective date of August 1, 2002:

Second Substitute First Revised Sheet No. 85

Substitute Original Sheet No. 85A

Crossroads states that it made a filing with the Commission on July 2, 2002 to include a new Section 4.2(i) to Section 4.2 of the General Terms and Conditions (GTC) of its FERC Gas Tariff to permit it, under certain limited circumstances, to reserve capacity that is available for firm service under the provisions of GTC Section 4.2 for future expansion projects. The Commission approved the filing on July 31, 2002 (100 FERC ¶ 61,131 (2002)), subject to modifications. Columbia filed its first compliance filing in this docket on August 15, 2002, which modified tariff language consistent with the July 31 Order. The Commission issued an order on the compliance filing and rehearing on December 19, 2002 (101 FERC ¶ 61,307). In this order, the Commission accepted the August 15 filing, subject to further modification. The instant filing incorporates the required modifications.

Crossroads states that copies of its filing have been mailed to all firm customers, interruptible customers, and affected state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 15, 2003.

Magalie R. Salas,
Secretary.

[FR Doc. 03-1266 Filed 1-17-03; 8:45 am]

BILLING CODE 6717-01-P